DEPARTMENT OF ENERGY

Federal Energy Regulatory Commission

Notice of Application Accepted for Filing and Soliciting Motions To Intervene and Protests

May 21, 2003.

Take notice that the following hydroelectric application has been filed with the Commission and is available for public inspection:

a. Type of Application: Application for new license.

b. Project No.: 2174-012.

c. Date filed: March 27, 2003.

d. Applicant: Southern California Edison.

e. Name of Project: Portal Project.

f. Location: On Rancheria Creek in Fresno County, near Big Creek, California. The project affects federal lands in the Sierra National Forest, covering a total of 77.67 acres.

g. Filed Pursuant to: Federal Power Act, 16 U.S.C. 791 (a)—825(r).

h. Applicant Contact: R. W. Krieger, Vice President, Power Production, Southern California Edison Company, 300 N. Lone Hill Ave., San Dimas, California 91773, (909) 394-8667.

i. FERC Contact: Jim Fargo at (202) 219-2848; e-mail james.fargo@ferc.gov.

j. Deadline for filing motions to intervene and protests: 60 days from the issuance date of this notice.

All documents (original and eight copies) should be filed with: Magalie R. Salas, Secretary, Federal Energy Regulatory Commission, 888 First Street, NE., Washington, DC 20426. Comments, motions to intervene and protests may be filed electronically via the Internet in lieu of paper. See 18 CFR 385.2001(a)(1)(iii) and the instructions on the Commission's Web site (http://www.ferc.gov) under the “e-Filing” link.

The Commission's rules of practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The existing Portal Project consists of: (1) A 795-foot-long compacted earth and rock-fill dam; (2) Portal Forebay, with a 325 acre-foot useable storage capacity at elevation 7,185 feet; (3) an open channel spillway at the left abutment of the dam, discharging into Camp 61 Creek; (4) an outlet channel consisting of (a) the Adit 2 tunnel and shaft between Portal Forebay and Ward Tunnel, (b) Ward Tunnel for a distance of about 32,000 feet from Adit 2 to the base of the surge chamber on the tunnel, (c) a rock trap immediately downstream of the surge chamber, and (d) a 1,180-foot-long penstock from the rock trap to where it bifurcates just upstream of the Portal Powerhouse; (5) a 10.8-MW turbine located in the concrete powerhouse; and (6) a 2.5-mile-long 480 kV transmission line.

m. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Magalie R. Salas,
Secretary.

[FR Doc. 03-13294 Filed 5-28-03; 8:45 am]

BILLING CODE 6717-01-P